DEPARTMENT OF ENERGY

Blue Ribbon Commission on the Use of Competitive Procedures for Department of Energy Laboratories; Notice of Open Meeting

AGENCY: Department of Energy.

SUMMARY: This notice announces an open meeting of the Secretary of Energy Advisory Board's subcommittee known as the Blue Ribbon Commission on the Use of Competitive Procedures for Department of Energy Laboratories. The Federal Advisory Committee Act (Public Law 92-463, 86 Stat. 770), requires that agencies publish these notices in the Federal Register to allow for public participation.

Name: Blue Ribbon Commission (BRC) on the Use of Competitive Procedures at Department of Energy Laboratories.

Dates and Times: Tuesday, August 5, 2003, 2 p.m.-4 p.m.

ADDRESSES: Ritz Carlton Hotel, Salon 2, Pentagon City, 1250 South Hayes Street, Arlington, VA 22202.

FOR FURTHER INFORMATION CONTACT: Dr. Craig R. Reed, Executive Director, Secretary of Energy Advisory Board (AB-1), U.S. Department of Energy, 1000 Independence Avenue, SW., Washington, DC 20585, (202) 586-7092 or (202) 586-6279 (fax).

SUPPLEMENTARY INFORMATION: The purpose of the Blue Ribbon Commission on the Use of Competitive Procedures at Department of Energy Laboratories (the Commission) is to provide the Secretary of Energy, through the Secretary of Energy Advisory Board, with essential independent advice and recommendations on issues related to the development of criteria to support future decisions regarding use of competition in renewing and extending the management and operations (M&O) contracts for the Department of Energy's national laboratories.

Tentative Agenda

The August 5 open meeting is intended to give the public an opportunity to provide input directly to the Blue Ribbon Commission members concerning the use of competition in awarding the M&O contracts for the Department of Energy's national laboratories. The Commission members are interested in obtaining input regarding the following questions:

• When is competition of a laboratory M&O contract appropriate?

• Should all contracts be competed, or if not, what criteria should be assessed in deciding to compete or extend a laboratory contract?

• Should a formal regimen for making competition decisions be established? Or is greater flexibility desirable?

• Should different decision criteria be developed according to the status of the M&O organization (for-profit, non-profit or educational institution) or the nature of the work or mission?

• What is the impact of competing a contract or changing the M&O contractor on the work performed at the laboratory?

• What should be the role of the “contractor” (industrial or university or not-for-profit) vs. the Lab Director and the DOE management (e.g., regarding personnel, financial control, programs, security, etc.)? At what level in DOE management should oversight most appropriately reside?

Public Participation

In keeping with procedures, members of the public are invited to provide comments. The preference of the Commission is to have members of the public desiring to provide comments sign up, and to provide written comments addressing the questions listed above, in advance of the August 5 meeting. Members of the public who have submitted written statements addressing the questions outlined above will be given priority in speaking to the Commission. A time limit will be placed on those members of the public wishing to speak at the meeting, with time allocated in accordance with the number of people who have signed in and who have indicated a desire to speak to the Commission. The Chairman of the Commission is empowered to conduct the meeting in a fashion that will, in the Chairman's judgment, facilitate the orderly conduct of business. Members of the public who have signed up in advance or who have submitted written comments will be heard first in the order in which their sign ups and/or statements were received. Others will be heard in the order in which they sign up at the beginning of the meeting. The Board will make every effort to hear the views of all interested parties. You may submit written comments to Dr. Craig R. Reed, Executive Director, Secretary of Energy Advisory Board, AB-1, U.S. Department of Energy, 1000 Independence Avenue, SW., Washington, DC 20585. Written comments should be sent by Federal Express or facsimile transmission to 202-586-6279. All written submissions should be received by July 31, 2003. Please do not send written comments via the U.S. Postal Service.

Minutes

A copy of the minutes and a transcript of the meeting will be made available for public review and copying approximately 30 days following the meeting at the Freedom of Information Public Reading Room, 1E-190 Forrestal Building, 1000 Independence Avenue, SW., Washington, DC between 9 a.m. and 4 p.m., Monday through Friday except Federal holidays. Further information on the Secretary of Energy Advisory Board and its subcommittees may be found at the Board's Web site, located at http://www.seab.energy.gov/.

Issued at Washington, DC, on July 14, 2003.
James N. Solit,
Advisory Committee Management Officer.

[FR Doc. 03-18143 Filed 7-16-03; 8:45 am]

BILLING CODE 6450-01-P